DEPARTMENT OF HEALTH AND HUMAN SERVICES

National Institutes of Health

National Institute on Deafness and Other Communication Disorders; Amended Notice of Meeting

Notice is hereby given of a change in the meeting of the Communication Disorders Review Committee, June 17, 2021, 08:00 a.m. to June 18, 2021, 05:00 p.m., Embassy Suites at the Chevy Chase Pavilion, 4300 Military Road NW, Washington, DC 20015 which was published in the Federal Register on December 31, 2020, 85 FR 86942.

The meeting is being amended to change the meeting location from in person to a virtual meeting and the meeting time to 10:30 a.m. to 4:00 p.m. each day. The meeting is closed to the public.

Dated: April 19, 2021.
Miguelina Perez,
Program Analyst, Office of Federal Advisory Committee Policy.

[FR Doc. 2021-08436 Filed 4-22-21; 8:45 am]

BILLING CODE 4140-01-P